DEPARTMENT OF THE INTERIOR

Bureau of Land Management

[LLNVW03500.L51050000.EA0000.LVRCF1705210.17X MO#4500132137]

Notice of Availability of the Draft Environmental Impact Statement for the Black Rock City LLC's Burning Man Special Recreation Permit Renewal in Pershing, County, Nevada

AGENCY: Bureau of Land Management, Interior.

ACTION: Notice of Availability.

SUMMARY: In compliance with the National Environmental Policy Act of 1969, as amended (NEPA), and the Federal Land Policy and Management Act of 1976, as amended, the Bureau of Land Management (BLM) Black Rock Field Office, Winnemucca, Nevada have prepared a Draft Environmental Impact Statement (EIS) and by this notice are announcing the beginning of the public comment period to solicit public comments on the Draft EIS. The BLM is the lead agency in development of the Draft EIS and will be evaluating Black Rock City LLC's (BRC) request for a 10-year Special Recreation Permit (SRP) for the Burning Man Event in Pershing County, Nevada.

DATES: This notice initiates the public comment period for the Draft EIS. Comments may be submitted in writing until April 29, 2019. The date(s) and location(s) of any comment meetings will be announced at least 15 days in advance through local media, newspapers and the BLM website at: https://go.usa.gov/xEmSY. In order to be included in the Draft EIS, all comments must be received prior to the close of the 45-day public comment period. We will provide additional opportunities for public participation upon publication of the Final EIS.

ADDRESSES: You may submit comments related to the Black Rock City LLC's Burning Man Special Recreation Permit Renewal Draft EIS by any of the following methods:

Burning Man Special Recreation Permit Renewal Draft EIS:

• Website: https://go.usa.gov/xEmSY.

• Email: blm_nv_burningmaneis@blm.gov.

• Fax: (775) 623-1741.

• Mail: Winnemucca District Office, 5100 East Winnemucca Boulevard, Winnemucca, NV 89445.

The Draft EIS may be viewed on the website listed above. Copies of the Draft EIS are available for viewing in the BLM Winnemucca District Office at the above address; and at the BLM Nevada State Office, 1340 Financial Boulevard, Reno Nevada 89502.

FOR FURTHER INFORMATION CONTACT: For questions about the proposed SRP renewal contact Mark Hall—Black Rock Field Office Field Manager, telephone: (775) 623-1500, address: 5100 East Winnemucca Boulevard, Winnemucca, Nevada 89445. Contact Mark Hall to have your name added to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, BRC, has applied for a 10-year SRP under 43 CFR 2930 and has submitted a proposal to conduct the Burning Man event on public lands administered by the BLM Black Rock Field Office. BRC's proposal includes the following:

• Population increase to permit up to 100,000 total persons at the event;

• Expansion of the BLM Closure Order boundary by 561 acres, to a total of 14,714 acres;

• Creation of alternative transportation (Burner Express Bus/Burner Express Air);

• Expansion of the perimeter fence to 10.4 miles total length;

• Arrival of as many as 30,000 staff and builders one week prior to opening;

• Expansion of Black Rock City to 1,250 acres;

• Installation of additional interactive camps;

• Installation of additional large scale art pieces;

• BRC licensing of art cars and ADA compliant vehicles to drive on the playa during event week;

• Use of approximately 16.5 million gallons of water per year would be obtained from private groundwater wells, located at Fly Ranch owned by BRC, for dust abatement and in support of event activities; and

• BRC management of vendor and compliance monitoring.

The Draft EIS describes and analyzes the proposed Project's direct, indirect, and cumulative impacts on all affected resources. In addition to the Proposed Action (Alternative A), the following alternatives are also analyzed in the document: The Reduced Population (50,000 participants) Alternative B, The Alternate Site Alternative (Alternative C, moves the Event northeast of its' current location); The No Population Change (80,000 participants) Alternative (Alternative D) would keep the population as it was in 2017 and 2018; and the No Permit Alternative (Alternative E).

In December 2017, pre-scoping meetings were held in northern Nevada in Gerlach, Lovelock, and Reno. During those meetings the public was asked to submit comments regarding BRC's SRP renewal. The pre-scoping comment period received 77 comment letters.

On June 20, 2018, an initial Notice of Intent was published in the Federal Register inviting scoping comments on the Proposed Action. A total of 327 scoping comment letters were received for the 45-day public scoping period. A total of 404 scoping comment letters were received during the two public scoping periods. Concerns raised included impacts to air quality, cultural resources, environmental justice, and transportation, Native American religious concerns, recreation, visual resources including Night Skies, wastes and materials (hazardous and solid), water resources, vegetation, wildlife, and Public Health and Safety.

The BLM has utilized and coordinated the NEPA scoping and comment process to help fulfill the public involvement requirements under the National Historic Preservation Act (NHPA) (54 U.S.C. 306108) as provided in 36 CFR 800.2(d)(3)—and continues to do so. The information about historic and cultural resources within the area potentially affected by the proposed Project has assisted the BLM in identifying and evaluating impacts to such resources in the context of both NEPA and Title 54 of the NHPA.

The BLM has consulted and will continue to consult with Indian tribes on a government-to-government basis in accordance with Executive Order 13175 and other policies. Tribal concerns, including impacts to Indian trust assets and potential impacts to cultural resources have been analyzed in the Draft EIS. Federal, State, and local agencies, along with tribes and other stakeholders that may be interested in or affected by the proposed Project that the BLM is evaluating, are invited to participate in the comment process.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Mark Hall,
Field Manager, Black Rock Field Office.

[FR Doc. 2019-04888 Filed 3-14-19; 8:45 am]

BILLING CODE 4310-HC-P